DEPARTMENT OF HEALTH AND HUMAN SERVICES

Centers for Disease Control and Prevention (CDC)

Disease, Disability, and Injury Prevention and Control Special Emphasis Panel: Non-Pharmaceutical Interventions for Pandemic Influenza, Request for Applications (RFA) CI06-010

Correction: This notice was published in the Federal Register on July 13, 2006, Volume 71, Number 134, page 39683. The date has been changed due to reviewer's conflict with the original date. The meeting will be held on August 28, 2006.

Title: Non-Pharmaceutical Interventions for Pandemic Influenza, RFA CI06-010.

Contact Person for more Information: Felix Rogers, Ph.D., Scientific Review Administrator, National Immunization Program, Centers for Disease Control and Prevention, 1600 Clifton Road NE., MS E-05, Atlanta, GA 30333, Telephone 404.639.6101.

The Director, Management Analysis and Services Office, has been delegated the authority to sign Federal Register notices pertaining to announcements of meetings and other committee management activities, for both CDC and the Agency for Toxic Substances and Disease Registry.

Dated: July 27, 2006.
Alvin Hall,
Director, Management Analysis and Services Office Centers for Disease Control and Prevention.

[FR Doc. E6-12542 Filed 8-2-06; 8:45 am]

BILLING CODE 4163-18-P